DEPARTMENT OF HOUSING AND URBAN DEVELOPMENT

[Docket No. FR-6413-N-01]

Preview of the FY 2023 Housing Counseling Program Homeownership Initiative; Notice of Funding Opportunity

AGENCY: Office of Housing Counseling, Department of Housing and Urban Development (HUD).

ACTION: Notice.

SUMMARY: Through this notice, HUD is announcing the publication of a preview of the Fiscal Year (FY) 2023 Homeownership Initiative Notice of Funding Opportunity (NOFO) in advance of publication on Grants.gov. HUD is making this preview available to allow interested applicants to review the preview of the NOFO, submit questions, and prepare applications. HUD intends to publish the NOFO and allow submission of applications in FY 2024.

FOR FURTHER INFORMATION CONTACT: Melissa Noe, Housing Program Specialist, Policy and Grant Administration, Office of Housing Counseling, Department of Housing and Urban Development, 77 W Jackson Blvd., Room 2301, Chicago, IL 60604; telephone number 312-913-8648 (this is not a toll-free number); email housing.counseling@hud.gov. HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: HUD is publishing a preview of the FY 2023 Homeownership Initiative NOFO to give interested applicants time to prepare their applications prior to the opening of the application period. During this preview, the FY 2023 Homeownership Initiative NOFO Preview is available on HUD's website at the following URL: https://www.hud.gov/grants.

This NOFO Preview is subject to change. While HUD does not intend to make substantive changes at this point, applicants should consider the NOFO published on Grants.gov to be the official version.

HUD will not accept applications during the preview period. However, during this preview, interested applicants may submit questions on the NOFO Preview to the following email address: housing.counseling@hud.gov, using the email subject line: FY 2023 Homeownership Initiative NOFO. Interested applicants may also conduct the required registration activities for the System for Award Management (SAM), Unique Entity Identifier (UEI), and Grants.gov (see Section IV.C. of the NOFO Preview).

Interested applicants are strongly encouraged to thoroughly review and prepare for the NOFO, by carefully examining the NOFO Preview, with particular attention to the fixed amount award submission requirements and rating factor responses.

HUD anticipates that the FY 2023 Homeownership Initiative NOFO will be published on Grants.gov in FY 2024. The publication of the FY 2023 Homeownership Initiative NOFO on Grants.gov will signal the opening of the application period. The application period will be open for 30 days. Applications must be submitted through Grants.gov.

HUD will not accept requests for a waiver of electronic submission requirements during the preview period. Such requests may only be submitted once the NOFO has been published on Grants.gov (see Section IV.A. of the NOFO Preview).

David Berenbaum,
Deputy Assistant Secretary for Housing Counseling.

[FR Doc. 2023-15902 Filed 7-26-23; 8:45 am]

BILLING CODE 4210-67-P